DEPARTMENT OF AGRICULTURE

Rural Utilities Service

7 CFR Parts 1710, 1714, 1717, 1724, 1726, and 1730

RIN 0572-AC40

Streamlining Electric Program Procedures

AGENCY: Rural Utilities Service, USDA.

ACTION: Final rule; change of effective date.

SUMMARY: On July 9, 2019, the Rural Utilities Service (RUS), a Rural Development agency of the United States Department of Agriculture (USDA), published a final rule that revised several regulations to streamline its procedures for Electric Program borrowers. RUS has determined it is necessary to accelerate the effective date of the final rule.

DATES:

Effective date: The effective date of the final rule published at 84 FR 32607 on July 9, 2019 is changed from September 9, 2019, to July 12, 2019.

Applicability date: The final rule published at 84 FR 32607 on July 9, 2019, is applicable beginning July 9, 2019.

FOR FURTHER INFORMATION CONTACT: Gerard Moore, Deputy Assistant Administrator, Office of Policy, Outreach, and Standards (OPOS), Rural Utilities Service, U.S. Department of Agriculture, STOP 1569, 1400 Independence Ave. SW, Washington, DC 20250-0787, telephone: (202) 720-1900. Email contact Gerard.Moore@wdc.usda.gov.

SUPPLEMENTARY INFORMATION: On July 9, 2019, RUS published a final rule implementing revisions to existing regulations to streamline procedures for Electric Program borrowers. The final rule should have been effective upon publication in the Federal Register. This document accelerates the effective date of the final rule from September 9, 2019 to July 12, 2019, and provides an applicability date of July 9, 2019 for the final rule.

Chad Rupe,
Administrator, Rural Utilities Service.

[FR Doc. 2019-14875 Filed 7-11-19; 8:45 am]

BILLING CODE 3410-15-P